DEPARTMENT OF JUSTICE

Notice of Lodging of Amended Consent Decree Under the Clean Water Act (CWA)

In accordance with Departmental policy, 28 CFR 50.7, notice is hereby given that on December 7, 2009, a proposed Integrated Overflow Abatement Plan (“IOAP”) to control combined sewer overflows (“CSOs”) and eliminate sanitary sewer overflows (“SSOs”) and other unauthorized discharges from the sewer system was lodged with the Court in United States and Commonwealth of Kentucky v. The Louisville and Jefferson County Metropolitan Sewer District (MSD) Civil Action No. 3:08-CV-608-CRS, Western District of Kentucky, Louisville Division. Pursuant to the Amended Consent Decree entered by the Court on April 15, 2009, the IOAP constitutes a material amendment to the Consent Decree, affording the public an opportunity to provide comments on it prior to it being submitted to the Court for approval.

The Amended Consent Decree required that MSD submit plans to control CSOs and eliminated SSOs and other unauthorized discharges from the sewer system. MSD integrated those plans into the IOAP, which includes a Long Term Control Plan (“LTCP”) and a Sanitary Sewer Discharge Plan (“SSDP”). The IOAP was drafted by MSD's Wet Weather Team which included a broad range of stakeholders, MSD staff and consultants. The IOAP was presented to the MSD Board on October 7, 2008, and at several public meetings on November 10, 12 and 20, 2008. MSD held a public hearing to receive both written and oral public comments on the IOAP on December 2, 2008, and concluding on December 5, 2008.

MSD submitted the IOAP to the United States Environmental Protection Agency (“EPA”) and the Commonwealth of Kentucky's Environmental and Public Protection Cabinet (“KDEP”) on December 19, 2008, as required by the Consent Decree. Following review of the IOAP, EPA and KDEP requested clarifications and revisions regarding the IOAP's regulatory compliance approach, proposed level of overflow control, schedule and budgets. MSD submitted revisions to the IOAP on June 19, 2009, and August 21, 2009. EPA and KDEP sent a conditional letter of approval to MSD on October 23, 2009.

The IOAP is a long-term plan to control CSOs and eliminate SSOs and other unauthorized discharges of sewage and partially treated sewage in the community. The IOAP is expected to improve water quality in both Jefferson County, Kentucky and the Ohio River. The expected water quality benefits of the IOAP include reductions in the peak levels of bacteria in the Ohio River, Beargrass Creek, and other Jefferson County waterways as well as a reduction in the duration of wet weather impairment of local waterways (i.e., the number of days that bacteria levels exceed water quality standards during periods of wet weather). The IOAP, in coordination with other community water initiatives, will also improve water quality ambient conditions.

From projects selected for the LTCP, MSD anticipates approximately 96 percent capture and treatment of wet weather combined sewage during an average year. Remaining CSO loads (after removing background) are estimated to no longer cause water quality standard violations in the Ohio River and peak fecal coliform counts are modeled to be reduced by 54 percent. At the mouth of Beargrass Creek, peak coliform counts are modeled to be reduced by 18 percent.

From projects selected for the SSDP, MSD anticipates elimination of 145 SSO events per year based on 2005-2007 data; elimination of an average of 290 million gallons of overflow volume per year (based on average of 2005-2007 normalized for rainfall); elimination of 100 tons of 5-day biochemical oxygen demand (“BOD5”); and, elimination of almost 200 tons of solids annually.

The Department of Justice will receive for a period of thirty (30) days from the date of this publication comments relating to the IOAP. Comments should be addressed to the Assistant Attorney General, Environment and Natural Resources Division, and either e-mailed to pubcomment-ees.enrd@usdoj.gov or mailed to P.O. Box 7611, U.S. Department of Justice, Washington, DC 20044-7611, and should refer to United States and Commonwealth of Kentucky v. The Louisville and Jefferson County Sewer District, DOJ # 90-5-1-1-08254/1. The IOAP may be examined at the MSD Building, 700 West Liberty, Louisville, KY 40202. During the public comment period, the IOAP, may also be examined at the Main Library located at 301 York Street, Louisville, KY 40203, and MSD's Web site which is http://www.msdlouky.org/projectwin/.

The IOAP and all of its exhibits are too numerous and voluminous for filing with the Court. Instead of filing the entire IOAP, MSD filed the Executive Summaries of the IOAP, LTCP and SSDP. MSD has placed copies of the entire IOAP and all of the exhibits in places accessible by the public. During the public comment period, the IOAP may be examined at the MSD Building, 700 West Liberty, Louisville, KY 40202. The IOAP may also be examined at the Louisville Free Public Library located at 301 York Street, Louisville, KY 40203, and the branch libraries as well as MSD's Web site at http://www.msdlouky.org/projectwin/.

A copy of the Executive Summary of the IOAP may also be obtained by mail from MSD by calling (502) 540-6000. In requesting a copy of the Executive Summary, please enclose a check in the amount of $8.50 (25 cents per page reproduction cost) payable to the MSD. In requesting copies of the Executive Summaries for the Long Term Control Plan (30 pages) and the Sanitary Sewer Discharge Plan (15 pages), please enclose a check in the amount of $11.25 (25 cents per page reproduction cost).

Maureen Katz,
Assistant Section Chief, Environmental Enforcement Section, Environment and Natural Resources Division.

[FR Doc. E9-29962 Filed 12-16-09; 8:45 am]

BILLING CODE 4410-15-P